DEPARTMENT OF ENERGY

Federal Energy Regulatory Commission

[Project No. 13614-000]

Free Flow Power Qualified Hydro 22, LLC; Notice of Preliminary Permit Application Accepted for Filing and Soliciting Comments, Motions To Intervene, and Competing Applications

March 1, 2010.

On November 05, 2009, Free Flow Power Qualified Hydro 22, LLC (FFP Qualified Hydro 22) filed an application for a preliminary permit, pursuant to section 4(f) of the Federal Power Act, proposing to study the feasibility of the Great Bend Hydroelectric Project No. 13614, to be located at an existing partially breached dam at river mile 21.7, on the Black River, in Jefferson County, New York.

The proposed project would consist of: (1) A new 19-foot-high by 272-foot-long concrete gravity dam; (2) a new 220-acre impoundment with a normal water surface elevation of 609 feet mean sea level; (3) an new 54-foot-long by 74-foot-wide powerhouse to contain two new turbine-generator units for a total installed capacity of 5.0 megawatts; (4) a new 3.8-mile-long, 23-kilovolt transmission line; and (5) appurtenant facilities. The proposed project would operate in a run-of-river mode and generate an estimated average annual generation of 24,500 megawatt-hours.

FFP Qualified Hydro 22: Ramya Swaminathan, FFP Qualified Hydro 22, LLC., 33 Commercial Street, Gloucester, MA 01930, (978) 283-2822.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13614) in the docket number field to access the document. For assistance, call toll-free 1-866-208-3372.

Kimberly D. Bose,
Secretary.

[FR Doc. 2010-4996 Filed 3-9-10; 8:45 am]

BILLING CODE 6717-01-P